DEPARTMENT OF TRANSPORTATION

Federal Aviation Administration

Agency Information Collection Activities: Requests for Comments; Clearance of Renewed Approval of Information Collection: Dealer's Aircraft Registration Certificate Application

AGENCY: Federal Aviation Administration (FAA), DOT.

ACTION: Notice and request for comments.

SUMMARY: In accordance with the Paperwork Reduction Act of 1995, FAA invites public comments about our intention to request the Office of Management and Budget (OMB) approval to renew an information collection. The collection involves submittal of pertinent information by a business or an individual to support issuance by the FAA of a Dealer's Aircraft Registration Certificate, which allows operation of an aircraft on a temporary basis under the auspices of a dealer business rather than having to obtain permanent registration.

DATES: Written comments should be submitted by August 6, 2018.

ADDRESSES: Send comments to the FAA at the following address: Barbara Hall, Federal Aviation Administration, ASP-110, 10101 Hillwood Parkway, Fort Worth, TX 76177.

FOR FURTHER INFORMATION CONTACT: Barbara Hall by email at: Barbara.L.Hall@faa.gov; phone: 940-594-5913.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0024.

Title: Dealer's Aircraft Registration Certificate Application.

Form Numbers: AC Form 8050-5.

Type of Review: Renewal of an information collection.

Background: This information collection supports the Department of Transportation's strategic goals on safety and security. Maintaining proper registration of aircraft is fundamental to ensure compliance with operations/airworthiness safety requirements in order to promote the public health and safety by working toward the elimination of transportation-related deaths, injuries, and property damage. Proper registration of aircraft is necessary to advance the nations vital security interest in support of national strategies by ensuring that the national transportation system is secure.

Public Law 103-272 states that all aircraft must be registered before they may be flown. It sets forth registration eligibility requirements and provides for application for registration as well as suspension and/or revocation of registration.

a. Federal Aviation Regulation (FAR) Part 47 prescribes procedures that implement Public Law 103-272 which provides for the issuance of dealer's aircraft registration certificates and for their use in connection with aircraft eligible for registration under this Act by persons engaged in manufacturing, distributing or selling aircraft. Dealer's certificates enable such persons to fly aircraft for sale immediately without having to go through the paperwork and expense of applying for and securing a permanent Certificate of Aircraft Registration. It also provides a system of identification of aircraft dealers.

b. Federal Aviation Regulations (FAR) Part 47 establishes procedures for implementing Section 505 of the Act. Specifically, Subpart C, Parts 47.61 through 47.71, describes procedures for obtaining and using dealer's certificates in FAR Part 47.63, elicit the information needed from the applicant in order to comply with Section 505 of the Act and FAR Part 47, Subpart C.

Respondents: Application for dealer's certificate may be made by any individual or company engaged in manufacturing, distributing, or selling aircraft who wants to be able operate those aircraft with a dealer's certificate instead of registering them permanently in the name of the entity.

Frequency: To maintain the certificate, the holder must renew/re-submit annually as the certificate expires one year after issuance.

Estimated Average Burden per Response: 45 minutes.

Estimated Total Annual Burden: During FY-2017, the FAA received 3,579 applications for dealer certificate.

Issued in Fort Worth, TX on June 1, 2018.
Barbara L. Hall,
FAA Information Collection Clearance Officer, Performance, Policy, and Records Management Branch, ASP-110.

[FR Doc. 2018-12298 Filed 6-6-18; 8:45 am]

BILLING CODE 4910-13-P